DEPARTMENT OF DEFENSE

Office of the Secretary

Proposed Collection; Comment Request

AGENCY: National Geospatial Intelligence Agency, DoD.

ACTION: Notice.

In compliance with Section 3506(c)(2)(A) of the Paperwork Reduction Act of 1995, the National Geospatial Intelligence Agency (NGA), Directorate of Human Development, announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 5, 2005.

ADDRESSES: Written comments and recommendations on the proposed information collection should be sent to: Directorate of Human Development, Policy and Program Division, HDSD, Mail Stop L-028, ATTN: Sheree Cannady, Arnold, MO 63010-6238.

FOR FURTHER INFORMATION CONTACT: To request more information on this proposed information collection or to obtain a copy of the proposal and associated collection instruments, please write to the above address, or call Sheree Cannady, (314) 263-4976.

Title; Associated Form; and OMB Number: Applicant Background Survey; NGA Form xxxx, OMB Number 0704-TBD.

Needs and Uses: This form is used to obtain the source of recruitment, ethnicity, race, and disability data on job applicants to determine if the recruitment is effectively reaching all aspects of the relevant labor pool and to determine if there are proportionate acceptance rates at various states of the recruitment process. Response is optional. The information is used for evaluating recruitment only and plays no part in the selection process.

Affected Public: Individuals or households.

Annual Burden Hours: 900.

Number of Respondents: 8,000.

Responses per Respondent: 1.

Average Burden per Response: 5 minutes.

Frequency: On occasion.

SUPPLEMENTARY INFORMATION:

Summary of Information Collection

National Geospatial Intelligence Agency (NGA) is below parity with the Relevant Civilian Labor Force representation for many mission critical occupations. The Agency's Directorate of Human Development identifies the job skills that will be needed in our current and future workforce. NGA has a broad mission and has employees located throughout the country and world. As a result, it requires a multitude of job skills and employee backgrounds. The customers who transact business with the Agency bring with them a wide variety of backgrounds, cultures, and experiences. A diverse workforce enables the Agency to provide a measure of understanding to its customers by relating to the diverse background of those customers. By including employees of all backgrounds, all NGA employees gain a measure of knowledge, background, and experience that are beneficial in serving the agency's customers.

In order to determine if there are barriers in our recruitment and selection processes, we must rank the demographic groups that apply for our jobs. There is no other statistically valid method to make these determinations, and no source of this information other than directly from applicants. The data collected is not provided to selecting officials and plays no part in the merit staffing or the selection processes. The data collected will be used in summary form to determine trends covering the demographic make-up of applicant pools and job selections within a given occupation or organizational group. The records of those applicants not selected are destroyed in accordance with the agency's records management process.

Dated: September 8, 2005.
Patricia L. Toppings,
Alternate OSD Federal Register Liaison Officer, Department of Defense.

[FR Doc. 05-20030 Filed 10-5-05; 8:45 am]

BILLING CODE 5001-06-M